DEPARTMENT OF ENERGY

Federal Energy Regulatory Commission

[Docekt No. RP03-210-000]

Guardian Pipeline, L.L.C.; Notice of Proposed Changes in FERC Gas Tariff

December 26, 2002.

Take notice that on December 20, 2002, Guardian Pipeline, L.L.C. (Guardian), tendered for filing as part of its FERC Gas Tariff, Original Volume No. 1, revised tariff sheets as listed in Appendix A attached to the filing, to be effective February 1, 2003.

Guardian states that the purpose of this filing is to two fold. First, Guardian is proposing to modify its cash-out mechanism to include a weekly pricing mechanism. Second, Guardian is proposing to strike certain language from its Pro Forma Service Agreement that prevents shippers that receive service at negotiated rates under Section 26.2 of the GT&C from protesting or otherwise contesting any filing by Transporter to adjust its rates and charges.

Guardian states that copies of this tariff filing are being served on its shippers and the Wisconsin and Illinois public service commissions.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. Comments, protests and interventions may be filed electronically via the Internet in lieu of paper. The Commission strongly encourages electronic filings. See 18 CFR 385.2001(a)(1)(iii) and the instructions on the Commission's Web site under the “e-Filing” link.

Intervention Date: January 2, 2003.
Linwood A. Watson, Jr.,
Deputy Secretary.

[FR Doc. 02-33064 Filed 12-31-02; 8:45 am]

BILLING CODE 6717-01-P